DEPARTMENT OF HOUSING AND URBAN DEVELOPMENT

[Docket No. FR-5753-N-11]

60-Day Notice of Proposed Information Collection: National Disaster Resilience Competition (NDRC) Phase 1 and Phase 2 Application and Community Development Block Grant National Disaster Resilience (CDBG-NDR) Pre- and Post-Award Planning and Reporting Requirements in the Disaster Recovery Grant Reporting (DRGR) System

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 19, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Stanley Gimont, Director, Office of Block Grant Assistance at Stanley.Gimont@hud.gov or telephone (202) 708-3587 Department of Housing and Urban Development, 451 7th Street SW., Washington, DC 20410.

SUPPLEMENTARY INFORMATION: This notice informs the public that HUD is seeking approval from OMB for the information collection described in Section A.

A. Overview of Information Collection

Title of Information Collection: National Disaster Resilience Competition (NDRC) and Community Development Block Grant National Disaster Recovery (CDBG-NDR) Pre- and Post-Award planning and reporting requirements in the Disaster Recovery Grant Reporting (DRGR) system.

OMB Approval Number: 2506-0203.

Type of Request: Revision of currently approved collection.

Form Numbers:

• Application for Federal Assistance (SF-424). Applicants must include the nine digit zip code (zip code plus four digits) associated to the applicant address in box 8d of the SF424. The DUNS number used must have an active registration in SAM.

• Disclosure of Lobbying Activities (SF-LLL). If this form does not apply, applicants will indicate that (e.g., writing “N/A”) on the form and submit it with their applications.

• Applicant/Recipient Disclosure/Update Report (form HUD-2880) (“HUD Applicant Recipient Disclosure Report”);

• Facsimile Transmittal Form on Grants.gov (HUD-96011). Third Party Documentation Facsimile Transmittal, if applicable.

Description of the need for the information and proposed use:

This information describes the application requirements of National Disaster Resilience Competition (NDRC) Notice of Funding Availability (NOFA). The data required includes narratives, attachments and standard forms needed to respond to thresholds, rating factors, and other criteria in the Phase 1 and 2 NOFA applications, including, but not limited to a single written request describing “most impacted and distressed” and “unmet needs” threshold responses for one or more potential target areas program level being considered by each NDRC Applicant, which may be submitted 45 days after NDRC NOFA publication for HUD to review in advance of full Phase 1 Application submissions. Successful Phase 1 applicants will be invited to submit more detailed Phase 2 applications, which will determine Community Development Block Grant National Disaster Resilience (CDBG-NDR) funding awards. CDBG-NDR awardees will be required to submit Action Plans, Quarterly Performance Reports (QPRs) and vouchers for payment in HUD's Disaster Recovery Grants Reporting (DRGR) system.

Respondents (i.e. affected public):

Respondents are eligible local and State governments that experienced a presidentially-declared major disaster during 2011-2013 as identified in the CDBG-NDR NOFA.

Total Estimated Burdens:

Description of information collection | Number of respondents | Number of responses | Total number of responses | Hours per response | Total hours | Cost per response * | Total cost
NDRC 1 45-Day Request for HUD To Review “Most Impacted and Distressed” and “Unmet Needs” Threshold Responses
45-day Request for HUD Review | 67 | 1 | 67 | 15 | 1,005 | $522 | $34,974
TOTAL 45-DAY REQUEST PAPERWORK BURDEN | N/A | 1 | 67 | 15 | 1,005 | 522 | 34,974
Full NDRC Phase 1 Application
Phase 1 Threshold Determination | 67 | 1 | 67 | 35 | 2,345 | 1,218 | 81,606
Factor Narratives and Attachments | 67 | 1 | 67 | 120 | 8,040 | 4,176 | 279,792
SF-424 | 67 | 1 | 67 | 0.75 | 50 | 26 | 1,742
SF-LLL | 67 | 1 | 67 | 1 | 67 | 35 | 2,345
HUD-2880 | 67 | 1 | 67 | 4 | 268 | 96 | 25,835
HUD-96011 | 67 | 1 | 67 | 0.03 | 2 | 1 | 67
TOTAL PHASE 1 PAPERWORK BURDEN | 67 | 6 | 402 | 161 | 10,772 | 5,552 | 391,387
Full NDRC Phase 2 Application
Phase 2 Threshold Determination | 67 | 1 | 67 | 35 | 2,345 | 1,218 | 81,606
Factor Narratives and Attachments | 67 | 1 | 67 | 150 | 10,050 | 5,220 | 349,740
SF-424 | 67 | 1 | 67 | 0.75 | 50 | 26 | 1,742
SF-LLL | 67 | 1 | 67 | 1 | 67 | 35 | 2,345
HUD-2880 | 67 | 1 | 67 | 4 | 268 | 96 | 25,835
HUD-96011 | 67 | 1 | 67 | 0.03 | 2 | 1 | 67
TOTAL PHASE 2 PAPERWORK BURDEN | 67 | 6 | 402 | 191 | 12,782 | $6,596 | $461,335
*Based number of hours per response at GS-13 salary of $34.80/hr.
** Maximum if all eligible Phase 1 Applicants apply and are invited to submit Phase 2 applications.

CDBG-NDR Information Collection in DRGR
Description of information collection | Number of respondents* | Number of responses | Total number of responses | Hours per response | Total hours | Cost per response** | Total cost
PRE-AWARD SUBMISSION REQUIREMENTS
Non-recurring:
Published Action Plan | 67 | 1 | 67 | 40 | 2680 | $1,392 | $93,264
SF 424 | 67 | 1 | 67 | 1 | 67 | 35 | 2,345
Procurement, Financial Controls and DOB documentation | 67 | 1 | 67 | 6 | 402 | 209 | 14,003
Performance and Financial Projections | 67 | 1 | 67 | 8 | 536 | 278 | 18,626
POST-AWARD
Grant Agreement (HUD 40092) | 67 | 1 | 67 | 1 | 67 | 35 | 2,345
Grantee's Written Agreements | 67 | 1 | 67 | 5 | 335 | 174 | 11,658
DRGR Activation, Activity Set-Up and Completion | 67 | 1 | 67 | 10 | 670 | 348 | 23,316
TOTAL PRE- AND POST-AWARD PAPERWORK BURDEN | 67 | 7 | 469 | 71 | 4,757 | 2,471 | 165,557
REPORTING (Annual)
Recurring: | Average Sized Grants Online Quarterly Reporting via DRGR | 67 | 4 | 268 | 9 | 2,412 | 313 | 83,884
Average-sized grants online voucher submissions | 67 | 19 | 1,273 | 0.22 | 280 | 8 | 10,184
TOTAL ANNUAL REPORTING PAPERWORK BURDEN | 67 | 23 | 1,541 | 9.22 | 14,208 | 349 | 537,809
TOTAL PAPERWORK BURDEN | 67 | 30 | 2,010 | N/A | 18,965 | N/A | 703,366
* Maximum if all eligible Phase 1 Applicants apply and are invited to submit Phase 2 applications
**Based number of hours per response at GS-13 salary of $34.80/hr.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: October 10, 2014.
Clifford Taffet,
General Deputy Assistant Secretary for Community, Planning and Development.

[FR Doc. 2014-24859 Filed 10-17-14; 8:45 am]

BILLING CODE 4210-67-P